FEDERAL COMMUNICATIONS COMMISSION

47 CFR Part 73

[DA 04-1025; MB Docket No. 03-246; RM-10830]

Radio Broadcasting Services; Ambrose and Ocilla, GA

AGENCY: Federal Communications Commission.

ACTION: Final rule.

SUMMARY: The Audio Division, at the request of RTG Radio, LLC, licensee of FM Station WKAA, Channel 249A, Ocilla, Georgia, deletes Ocilla, Georgia, Channel 249A, from the FM Table of Allotments, allots Channel 250A at Ambrose, Georgia, as the community's first local FM service, and modifies the license of FM Station WKAA to specify operation on Channel 250A at Ambrose. Channel 250A can be allotted to Ambrose, Georgia, in compliance with the Commission's minimum distance separation requirements with a site restriction of 13.4 km (8.3 miles) southeast of Ambrose. The coordinates for Channel 250A at Ambrose, Georgia, are 31-30-36 North Latitude and 82-54-48 West Longitude.

DATES: Effective June 4, 2004.

FOR FURTHER INFORMATION CONTACT: Deborah Dupont, Media Bureau, (202) 418-2180.

SUPPLEMENTARY INFORMATION: This is a synopsis of the Commission's Report and Order, MB Docket No. 03-246, adopted April 14, 2004, and released April 19, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Georgia, is amended by adding Ambrose, Channel 250A and by removing Channel 249A at Ocilla.

Federal Communications Commission.
John A. Karousos,
Assistant Chief, Audio Division, Media Bureau.

[FR Doc. 04-10581 Filed 5-7-04; 8:45 am]

BILLING CODE 6712-01-P